DEPARTMENT OF AGRICULTURE

Agricultural Marketing Service

[Doc. No. AMS-AMS-22-0066]

United States Standards for Beans

AGENCY: Agricultural Marketing Service, USDA.

ACTION: Notice of final action.

SUMMARY: The United States Department of Agriculture's (USDA) Agricultural Marketing Service (AMS) is revising the United States Standards for Beans under the United States Agricultural Marketing Act of 1946, as amended, (AMA). AMS is revising the grade-determining factors for Moisture and Contrasting Chickpeas in the class Chickpea/Garbanzo Beans.

DATES: Applicable July 1, 2023.

FOR FURTHER INFORMATION CONTACT: Loren Almond, USDA AMS; Telephone: (816) 702-3925; Email: Loren.L.Almond@usda.gov.

SUPPLEMENTARY INFORMATION: Under the authority of the AMA (7 U.S.C. 1621-1627), as amended, AMS establishes and maintains a variety of voluntary quality and grade standards for agricultural commodities that serve as a fundamental starting point to define commodity quality and facilitate marketing of U.S. commodities in the domestic and global marketplace.

The USDA-AMS-Federal Grain Inspection Service (FGIS) maintains and implements the U.S. Standards for Beans, last revised in 2017, which are available on the AMS public website (https://www.ams.usda.gov/grades-standards). The U.S. Standards for Beans define commonly used industry terms; contain basic principles governing the application of standards, such as the type of sample used for a particular quality analysis; outline the basis of determination; and specify grades and grade requirements. Official testing procedures for determining grading factors are provided in the Bean Inspection Handbook. Together, the grading standards and testing procedures allow buyers and sellers to communicate quality requirements, compare bean quality using equivalent forms of measurement, and assist in price discovery.

AMS published a notice and request for comments in the Federal Register on October 12, 2022 (87 FR 61559), inviting interested parties to comment on proposed revisions to the standards pertaining to Moisture and Contrasting Chickpeas/Garbanzo Beans as grade-determining factors in the class Chickpeas/Garbanzo Beans in the U.S. Standards for Beans. AMS proposed the revisions following discussions with stakeholders in the bean processing/handling industry.

Proposed Revision of Moisture Determination in Chickpea/Garbanzo Beans

Currently, the maximum tolerance for moisture in U.S. No. 1, 2, and 3 grade chickpeas is 18.0 percent. AMS-FGIS met with representatives of bean industry stakeholders, who stated that 18.0 percent moisture content is too high for proper storage and maintenance of Chickpea/Garbanzo Beans and that the standard should be revised to a lower moisture content. However, FGIS is aware that moisture content is often a contract specification and that there is a need in the market for a grade that recognizes a higher moisture content. After various meetings and discussions, bean stakeholders recommended revising the moisture limit for U.S. No. 1, 2, and 3 grades of Chickpea/Garbanzo Beans downward from 18.0 percent to 14.0 percent and revising the standard for “High Moisture” beans from above 18.0 percent to above 14.0 percent moisture. Accordingly, FGIS proposed in the October 12, 2022, notice (87 FR 61559), that Chickpea/Garbanzo Beans with more than 14.0 percent moisture should be designated as Special Grade, “High Moisture.”

Proposed Revision of Contrasting Chickpea/Garbanzo Beans

Currently, the maximum tolerance for contrasting chickpeas, that differ substantially in shape or color, in U.S. No. 3 grade is 5.0 percent. Chickpea samples with greater than 5.0 percent contrasting chickpeas are considered “U.S. Substandard” grade. However, stakeholders told FGIS that contrasting chickpeas of greater than 5.0 percent do not affect actual bean quality, the entire sample of beans is still considered Chickpea/Garbanzo Beans, and that such beans are marketable. For these reasons stakeholders requested that chickpeas with greater than 5.0 percent contrast not be considered “U.S. Substandard.” Stakeholders recommended revising the standard by changing the grade criteria for Contrasting Chickpeas in Chickpea/Garbanzo Beans. Under the recommended revision, Chickpea/Garbanzo Beans with greater than 2.0 percent contrasting chickpeas could be considered U.S. No. 3 grade. Accordingly, FGIS proposed in the October 12, 2022, notice (87 FR 61559), that Chickpea/Garbanzo Beans found to contain more than 2.0 percent Contrasting Chickpeas could be designated as U.S. No. 3 but would grade no higher than U.S. No. 3. Contrasting Chickpea grading criteria for U.S. No. 1 and U.S. No. 2 would remain unchanged.

Comment Review

The publication of the notice and request for comment initiated a 60-day comment period, which ended December 12, 2022. AMS received no comments on the proposed revisions.

Final Action

For the foregoing reasons, AMS-FGIS is revising the U.S. Standards for Beans in the class Chickpea/Garbanzo Bean by amending the criteria for Special Grade “High Moisture” and the grade determining factor “Contrasting Chickpeas”. Accordingly, Chickpeas/Garbanzo Beans with more than 14.0 percent moisture will be considered Special Grade, “High Moisture,” and samples with Contrasting Chickpeas over 2.0 percent will grade no higher than U.S. No. 3 Chickpea/Garbanzo Beans.

These revisions to the Chickpea/Garbanzo Bean standard are effective July 1, 2023. Table 3.10 of the Bean Inspection Handbook will be updated to reflect the revised bean standard, as shown below.

Table 3.10—Chickpeas (Garbanzo Beans)
Grade | Maximum limits of—: Moisture ¹ (percent) | Maximum limits of—: Total defects (DB, FM, CCL, & SPL) (percent) | Maximum limits of—: Total damaged (percent) | Maximum limits of—: Foreign material: Total (percent) | Maximum limits of—: Foreign material: Stones (percent) | Maximum limits of—: Contrasting Classes ² (percent) | Maximum limits of—: Contrasting Chickpeas ³ (percent)
U.S. No. 1 | 14.0 | 2.0 | 2.0 | 0.5 | 0.2 | 0.5 | 1.0
U.S. No. 2 | 14.0 | 4.0 | 4.0 | 1.0 | 0.4 | 1.0 | 2.0
U.S. No. 3 | 14.0 | 6.0 | 6.0 | 1.5 | 0.6 | 2.0 | >2.0
¹ Beans with more than 14.0 percent moisture are graded High Moisture.
² Beans with more than 2.0 percent contrasting classes are graded Mixed Beans.
³ Beans with more than 2.0 percent contrasting chickpeas must grade no higher than a U.S. No. 3.

U.S. Substandard: U.S. Substandard shall be beans which do not meet the requirements for the grades U.S. No. 1 through U.S. No. 3 or U.S. Sample Grade. Beans which are not well screened shall also be U.S. Substandard, except for beans which meet the requirements for U.S. Sample Grade.

U.S. Sample Grade: U.S. Sample Grade shall be beans which are musty, sour, heating, materially weathered, or weevily; which have any commercially objectionable odor; which contain insect webbing or filth, animal filth, any unknown foreign substance, broken glass, or metal fragments; or which are otherwise of distinctly low quality.

Authority: 7 U.S.C. 1621-1627.

Melissa Bailey,
Associate Administrator, Agricultural Marketing Service.

[FR Doc. 2023-12708 Filed 6-13-23; 8:45 am]

BILLING CODE P